DEPARTMENT OF COMMERCE

National Oceanic and Atmospheric Administration

[RTID 0648-XE125]

South Atlantic Fishery Management Council; Public Meetings

AGENCY: National Marine Fisheries Service (NMFS), National Oceanic and Atmospheric Administration (NOAA), Commerce.

ACTION: Notice of public meetings.

SUMMARY: The South Atlantic Fishery Management Council (Council) will hold four Best Fishing Practices Master Volunteer Program (BFP MVP) workshops covering best fishing practices, specifically for snapper grouper species, how to get involved in Citizen Science projects, and how to get involved in the Council process.

DATES: BFP MVP Workshops will take place August 20, August 21, August 22, and August 27, 2024. The August 20, 21, and 22 workshops will begin at 6 p.m., local time. The August 27 workshop will begin at 5 p.m., local time. See SUPPLEMENTARY INFORMATION.

ADDRESSES:

Meeting addresses: The workshops will be held in New Smyrna Beach, FL; Jupiter, FL; Key West, FL; and Ponte Vedra Beach, FL. See SUPPLEMENTARY INFORMATION for specific locations.

Council address: South Atlantic Fishery Management Council, 4055 Faber Place Drive, Suite 201, N Charleston, SC 29405.

FOR FURTHER INFORMATION CONTACT: Ashley Oliver, Best Fishing Practices Outreach Specialist, SAFMC; phone: (843) 571-4366 or toll free: (866) SAFMC-10; fax: (843) 769-4520; email: ashley.oliver@safmc.net.

SUPPLEMENTARY INFORMATION: The Council is hosting a series of Best Fishing Practices Master Volunteer Program (BFP MVP) workshops along the South Atlantic coast throughout 2024. The workshops are designed to empower key members of the fishing community to share information on best fishing practices and opportunities to get involved in the Council process. Council staff will introduce the BFP MVP and the program's goals and objectives and share information on Best Fishing Practices including the topics of barotrauma and barotrauma mitigation devices. The workshop agenda also includes discussions of the Council's Citizen Science projects, and an introduction to the Regional Fishery Management Councils, specifically the South Atlantic Fishery Management Council, and how to get involved in the Federal fishery management process. If applicable, state agencies will share information pertaining to their fisheries management and BFP efforts. Throughout the workshop, attendees will have the opportunity to share their expertise and ideas with staff on improving outreach efforts in their community. Additional workshops will be scheduled along the South Atlantic coast throughout the remainder of 2024. A summary of the 2024 workshops will be provided to the Council for use in ongoing outreach efforts.

Workshop Locations

Tuesday, August 20, 2024: Marine Discovery Center: 520 Barracuda Blvd., New Smyrna Beach, FL 32169; phone: (386) 428-4828;

Wednesday, August 21, 2024: West Jupiter Recreation Center: 6401 W Indiantown Rd., Jupiter, FL 33458; phone: (561) 694-5431;

Thursday, August 22, 2024: Beachside Resort and Residences: 3841 N Roosevelt Blvd., Key West, FL 33040; phone: (305) 296-8100; and

Tuesday, August 27, 2024: Guana Tolomato Matanzas National Estuarine Research Reserve Classroom 3: 505 Guana River Rd., Ponte Vedra Beach, FL 32082; phone: (904) 380-8600.

Special Accommodations

These meetings are physically accessible to people with disabilities. Requests for auxiliary aid should be directed to the Council office (see ADDRESSES) 5 days prior to the meeting.

Note: The times and sequence specified in this agenda are subject to change.

Authority: 16 U.S.C. 1802 et seq.

Dated: July 29, 2024.
Rey Israel Marquez,
Acting Deputy Director, Office of Sustainable Fisheries, National Marine Fisheries Service.

[FR Doc. 2024-17030 Filed 8-1-24; 8:45 am]

BILLING CODE 3510-22-P